DEPARTMENT OF EDUCATION

Emergency Response and Crisis Management Grant Program

AGENCY: Office of Safe and Drug-Free Schools, Department of Education.

ACTION: Notice of proposed priority and other application requirements.

SUMMARY: We propose a priority and other application requirements under the Emergency Response and Crisis Management Grant program. We may use this priority and the application requirements for competitions in Fiscal Year (FY) 2005 and in later years. We take this action to focus Federal financial assistance on supporting grants to local educational agencies (LEAs) in improving and strengthening emergency response and crisis management plans that address the four phases of crisis planning: Prevention/Mitigation, Preparedness, Response, and Recovery.

DATES: We must receive your comments on or before May 16, 2005.

ADDRESSES: Address all comments about this proposed priority and other application requirements to Sara Strizzi, 400 Maryland Avenue, SW., room 3E320, Washington, DC 20202-6450. If you prefer to send your comments through the Internet, use the following address: sara.strizzi@ed.gov.

FOR FURTHER INFORMATION CONTACT: Sara Strizzi. Telephone: (202) 708-4850 or via Internet: sara.strizzi@ed.gov.

If you use a telecommunications device for the deaf (TDD), you may call the Federal Relay Service (FRS) at 1-888-877-8339.

Individuals with disabilities may obtain this document in an alternative format (e.g. Braille, large print, audiotape, or computer diskette) on request to the contact person listed under FOR FURTHER INFORMATION CONTACT.

SUPPLEMENTARY INFORMATION:

Invitation To Comment

We invite you to submit comments regarding this proposed priority and other application requirements.

We invite you to assist us in complying with the specific requirements of Executive Order 12866 and its overall requirement of reducing regulatory burden that might result from this proposed priority and other application requirements. Please let us know of any further opportunities we should take to reduce potential costs or increase potential benefits while preserving the effective and efficient administration of the program.

During and after the comment period, you may inspect all public comments about this proposed priority and other application requirements in 400 Maryland Ave, SW., room 3E320, Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority and other application requirements. If you want to schedule an appointment for this type of aid, please contact the person listed under FOR FURTHER INFORMATION CONTACT.

Background: The events of September 11, 2001, made schools and communities aware that, in addition to planning for traditional crises and emergencies, schools must now plan to respond to possible terrorist attacks on campus or in the community. We propose this priority and other application requirements under the Safe and Drug-Free Schools and Communities National Programs to focus on the important need of LEAs to strengthen and improve school crisis plans in coordination with community-based partners.

We will announce the final priority and other application requirements in a notice in the Federal Register. We will determine the final priority and other application requirements after considering responses to this notice and other information available to the Department. This notice does not preclude us from proposing or using additional priorities or other application requirements, subject to meeting applicable rulemaking requirements.

Note: This notice does not solicit applications. In any year in which we choose to use this proposed priority and other application requirements, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority: Improvement and Strengthening of School Emergency Response and Crisis Management Plans. This proposed priority supports local educational agency (LEA) projects to improve and strengthen emergency response and crisis management plans, at the district and school-building level, addressing the four phases of crisis planning: Prevention/Mitigation, Preparedness, Response, and Recovery. Plans must include: (1) training for school personnel and students in emergency response procedures; (2) coordination with local law enforcement, public safety, health, and mental health agencies; and (3) a method for communicating school emergency response policies and reunification procedures to parents and guardians.

Other Application Requirements: We propose establishing the following application requirements:

1. Partner Agreements. To be considered for a grant award, an applicant must include in its application an agreement that details the participation of each of the following five community-based partners: law enforcement, public safety, health, mental health, and the head of the applicant's local government (for example the mayor, city manager, or county executive). The agreement must include a description of each partner's roles and responsibilities in improving and strengthening emergency response plans at the district and school-building level, a description of each partner's commitment to the continuation and continuous improvement of emergency response plans at the district and school-building level, and an authorized signature representing the LEA and each partner acknowledging the agreement. If one or more of the five partners listed is not present in the applicant's community, or cannot feasibly participate, the agreement must explain the absence of each missing partner. To be considered eligible for funding, however, an application must include a signed agreement between the LEA, a law enforcement partner, and at least one of the other required partners (public safety, health, mental health, or head of local government).

Applications that fail to include the required agreement, including information on partners' roles and responsibilities and on their commitment to continuation and continuous improvement (with signatures and explanations for missing signatures as specified above), will not be read.

Although this program requires partnerships with other parties, administrative direction and fiscal control for the project must reside with the LEA.

2. Coordination with State or Local Homeland Security Plan. All emergency response and crisis management plans must be coordinated with the Homeland Security Plan of the State or locality in which the LEA is located. All States submitted such a plan to the Department of Homeland Security on January 30, 2004. To ensure that emergency services are coordinated, and to avoid duplication of effort within States and localities, applicants must include in their applications an assurance that the LEA will coordinate with and follow the requirements of their State or local Homeland Security Plan for emergency services and initiatives.

3. Support of the National Incident Management System. Applicants also must also agree to support the implementation of the National Incident Management System (NIMS). In accordance with Homeland Security Presidential Directive/HSPD-5, the NIMS provides a consistent approach for Federal, State, and local governments to work effectively and efficiently together to prepare for, prevent, respond to, and recover from domestic incidents, regardless of cause, size, or complexity.

Specifically, applicants must include in their applications an assurance that, by September 30, 2005, they will complete, to the maximum extent possible, the following steps to support NIMS implementation:

• Administer the NIMS Awareness Course: “National Incident Management System (NIMS), An Introduction” (IS 700) to key district and school staff. This independent study course, developed by the Emergency Management Institute (EMI), explains the purpose, principles, key components, and benefits of the NIMS. The course is available online and will take between forty-five minutes to three hours to complete. The course is available on the EMI Web site at: http://training.fema.gov/EMIWeb/IS/is700.asp.

• Formally recognize the NIMS and adopt NIMS principles and policies. Districts and/or their local government should establish an executive order, resolution, or ordinance to formally adopt the NIMS.

• Establish a NIMS baseline to determine which NIMS requirements have been met by the LEA. Districts should coordinate with their community partners to assess the district's overall compliance with the NIMS, and determine gaps in compliance that need to be closed in order to reach full implementation of the NIMS.

• Establish a timeframe and strategy for full NIMS implementation. States, territories, tribes, and local entities are encouraged to achieve full NIMS implementation by September 30, 2005, to the maximum extent possible.

• Establish the use of the Incident Command System (ICS). The ICS has been established by the NIMS as the standardized incident organizational structure for the management of all incidents. Districts should coordinate with community partners listed above in institutionalizing the use of the ICS in a manner that is consistent with the concepts and principles in the NIMS.

Note: Since LEAs are integral to local governments, an LEA's NIMS compliance must be achieved in close coordination with the local government and with recognition of the first responder capabilities held by the LEA and the local government. As LEAs are not traditional response organizations, first responder services will typically be provided to LEAs by local fire and rescue departments, emergency medical service providers, and law enforcement agencies. This traditional relationship must be acknowledged in achieving NIMS compliance in an integrated NIMS compliance plan for the local government and the LEA. LEA participation in the NIMS preparedness program of the local government is essential to ensure that first responder services are delivered to schools in a timely and effective manner. Additional information about NIMS implementation is available at http://www.fema.gov/nims.)

4. Individuals with Disabilities. The applicant's plan must demonstrate that the applicant has taken into consideration the communication, transportation, and medical needs of individuals with disabilities within the school district.

Executive Order 12866

This notice of proposed priority and other application requirements has been reviewed in accordance with Executive Order 12866. Under the terms of the order, we have assessed the potential costs and benefits of this regulatory action.

The potential costs associated with the notice of proposed priority and other application requirements are those resulting from statutory requirements and those we have determined as necessary for administering this program effectively and efficiently.

In assessing the potential costs and benefits—both quantitative and qualitative—of this notice of proposed priority and other application requirements, we have determined that the benefits of the proposed priority and other application requirements justify the costs.

We have also determined that this regulatory action does not unduly interfere with State, local, and tribal governments in the exercise of their governmental functions.

Summary of potential costs and benefits: The potential cost associated with this proposed priority and other application requirements is minimal while the benefits are significant. Grantees may anticipate costs with completing the application process in terms of staff and partner time, copying, and mailing or delivery. The use of E-Application technology reduces mailing and copying costs significantly.

Grantees may also anticipate costs in achieving NIMS compliance. However, these costs may be included in the grant budget and, therefore, will have little financial impact on the applicant.

The benefit of this proposed priority and other application requirements is that grantees that develop a comprehensive emergency response and crisis management plan that includes training and that is implemented in coordination with community partners may mitigate the financial and human impact of a crisis in their district.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about PDF, call the U.S. Government Printing Office (GPO), toll free, at 1-888-293-6498; or in the Washington, DC, area, at (202) 512-1530.

Note: The official version of this document is the document published in the Federal Register. Free Internet access to the official edition of the Federal Register and the Code of Federal Regulations is available on GPO Access at: http://www.gpoaccess.gov/nara/index.html.

(Catalog of Federal Domestic Assistance Number 84.184.E—Emergency Response and Crisis Management Grant program)

Program Authority: 20 U.S.C. 7131.

Dated: April 11, 2005.
Deborah A. Price,
Assistant Deputy Secretary for Safe and Drug-Free Schools.

[FR Doc. 05-7531 Filed 4-13-05; 8:45 am]

BILLING CODE 4000-01-P